OCCUPATIONAL SAFETY AND HEALTH REVIEW COMMISSION

29 CFR Part 2200

Revisions to Procedural Rules Governing Practice Before the Occupational Safety and Health Review Commission

AGENCY: Occupational Safety and Health Review Commission.

ACTION: Advance notice of proposed rulemaking.

SUMMARY: This document solicits recommendations for amendments to the Commission's rules of procedure.

DATES: Submit comments on or before October 9, 2018.

ADDRESSES: You may submit comments by any of the following methods:

• Email: rbailey@oshrc.gov. Include “Advance notice of proposed rulemaking, 29 CFR part 2200” in the subject line of the message.

• Fax: 202-606-5417.

• Mail: One Lafayette Centre, 1120 20th Street NW, Ninth Floor, Washington, DC 20036-3457.

• Hand Delivery/Courier: Same as mailing address.

Instructions: All submissions must include your name, return address, and email address, if applicable. Please clearly label submissions as “Advance notice of proposed rulemaking, 29 CFR part 2200.”

FOR FURTHER INFORMATION CONTACT: Ron Bailey, via telephone at 202-606-5410, or via email at rbailey@oshrc.gov.

SUPPLEMENTARY INFORMATION: In accordance with 29 U.S.C. 661(g), the Occupational Safety and Health Review Commission last implemented a comprehensive revision of its rules of procedure in 2005. Since that time, technological advances, including implementation of the E-filing system, as well as the evolution of practice before the Commission, have called for a careful reexamination of the Commission's rules of procedure, as set forth in 29 CFR part 2200. To assist in determining what revisions should be made, the agency is soliciting recommendations from the public. It is especially interested in hearing from those who practice before it on what rules their experience suggests would benefit from a revision. While recommended changes to any rule will be considered, the Commission is especially interested in whether: Rules on the computation of time should be simplified; electronic filing and service should be mandatory and, if so, what exceptions, if any, should be allowed; the definition of “affected employee” should be broadened; citing to Commission decisions as posted on the agency's website should be allowed; the rule on the staying of a final order is not needed and should be eliminated; the requirement for agency approval of settlements should be narrowed or eliminated; the grounds for obtaining Commission review of interlocutory orders issued by its administrative law judges should be revised; protection of sensitive personal information should be broadened; and whether the threshold amount for cases referred for mandatory settlement proceedings should be increased. Comments suggesting a rule change should include a brief discussion of the reasons for the change, why the change would facilitate improved practice before the Commission, and a reference to authority where necessary.

Dated: August 15, 2018.
Heather L. MacDougall,
Chairman.

[FR Doc. 2018-18050 Filed 9-6-18; 8:45 am]

BILLING CODE 7600-01-P